DEPARTMENT OF COMMERCE

National Oceanic and Atmospheric Administration

50 CFR Part 660

[I.D. 110300B]

Western Pacific Fishery Management Council; Public Meeting

AGENCY: National Marine Fisheries Service (NMFS), National Oceanic and Atmospheric Administration (NOAA), Commerce.

ACTION: Notice of public meeting/public hearing.

SUMMARY: The Western Pacific Fishery Management Council (Council) will hold its 107th meeting November 28 through December 1, 2000, in Honolulu, HI. A public hearing will be held on a framework amendment to add new entry criteria for the Mau Zone limited entry bottomfish fishery in the Northwestern Hawaiian Islands (NWHI).

DATES: The Council’s Standing Committees will meet on November 28, 2000, from 7:30 a.m. to 5:30 p.m. The full Council meeting will be held on November 29, 2000, from 9 a.m. to 5 p.m. and November 30 to December 1, 2000, from 8:30 a.m. to 5 p.m. A public hearing will be held on November 29, 2000 at 3 p.m. on a framework amendment to add new entry criteria for the Mau zone limited entry bottomfish fishery in the NWHI. See SUPPLEMENTARY INFORMATION for specific dates and times for these meetings and the hearings.

ADDRESSES: The Council meeting, Standing Committee meetings, and public hearing will be held at the Ala Moana Hotel, 410 Atkinson Drive, Honolulu, HI; telephone: 808-955-4811. Copies of the framework document proposing new entry criteria for the Mau Zone are available from and written comments can be sent to the Western Pacific Fishery Management Council, 1164 Bishop St., Suite 1400, Honolulu, HI 96813.

FOR FURTHER INFORMATION CONTACT: Kitty M. Simonds, Executive Director; telephone: 808-522-8220.

SUPPLEMENTARY INFORMATION:

Dates and Times of Committee Meetings

The following Standing Committees of the Council will meet on November 28, 2000. Enforcement/Vessel Monitoring System from 7:30 a.m. to 9:30 a.m.; International Fisheries/Pelagics from 9:30 a.m. to 11:30 a.m.; Executive/Budget and Program from 11:30 a.m. to 1:30 p.m.; Precious Corals from 1:30 p.m. to 3 p.m.; Crustaceans from 1:30 p.m. to 3 p.m.; Bottomfish from 3 p.m. to 4:30 p.m; Ecosystem and Habitat from 3 p.m. to 4:30 p.m.; and Fishery Rights of Indigenous People from 4:30 p.m. to 5:30 p.m.

Public Hearings

A public hearing on new entry criteria for the Mau Zone bottomfish fishery will be held on Wednesday, November 29, 2000, at 3 p.m.

In addition, the Council will hear recommendations from its advisory panels, plan teams, scientific and statistical committee, and other ad hoc groups. The order in which agenda items are addressed may change. The Council will meet as late as necessary to complete scheduled business.

Agenda

1. Introductions

2. Approval of Agenda

3. Approval of 105th and 106th Meeting Minutes

4. Island Reports

A. American Samoa

B. Guam

C. Hawaii

D. Commonwealth of the Northern Mariana Islands (CNMI)

5. Federal Agency and Organization Reports

A. Department of Commerce

(1) NMFS

(a) Southwest Region, Pacific Island Area Office

(b) Southwest Fisheries Science Center, La Jolla and Honolulu Laboratories

(2) NOAA General Counsel, Southwest Region

B. Department of the Interior

(1) U.S. Fish and Wildlife Service

C. U.S. State Department

6. Enforcement

A. U.S. Coast Guard activities

B. NMFS activities

C. Commonwealth, Territories, and State activities

D. Cooperative agreements for Guam/CNMI

E. Status of violations

7. Vessel Monitoring System (VMS)

A. Hawaii VMS report

B. Report on national VMS efforts

8. Presentation on Transition Zone Chlorophyll Front

9. Precious Corals

A. Status of framework amendment regarding new harvesting requirements

B. Status of framework adjustment regarding Hawaiian Islands exploratory area quota increase

C. New bed definition and associated permitting

D. Precious Coral draft environmental impact statement

10. Bottomfish Fisheries

A. Update on State of Hawaii area closures

B. Mau Zone framework amendment

C. Status of litigation

D. Status of section 7 consultation

E. Draft Bottomfish EIS

F. Observer program

G. Public hearing on new entry criteria for the Mau Zone bottomfish fishery

The Council has developed a framework amendment to the Fishery Management Plan for Bottomfish and Seamount Groundfish Fisheries of the Western Pacific Region. The amendment will establish criteria for new entry into the limited access Mau Zone bottomfish fishery around the NWHI. In developing the framework document, the Council considered a range of alternatives and impacts on NWHI bottomfish fishery. Currently, there are no Federal regulations that specify how new permits are to be issued for the Mau Zone fishery once the number of vessels in the Zone falls below the target number of 10 permits. The Council is soliciting public comment and input on options for eligibility criteria including but not limited to the following: weighted point system based on past participation in the bottomfish fisheries off the main Hawaiian islands and NWHI, free and limited transferability of permits, and a lottery system.

11. Crustacean Fisheries

A. Status of litigation

B. Status of research and stock assessment activities and plans

C. NWHI management program 5-year review including overcapitalization of the NWHI fishery

D. Draft Crustacean EIS

12. Non-Governmental Organization Round-up Including Ocean Wildlife Campaign “Just Ask” Program.

13. Pelagic Fisheries

A. 2nd quarter 2000 Hawaii and American Samoa longline fishery report

B. Recreational fisheries

(1) Island reports

(a) Hawaii

(b) American Samoa

(c) Guam

(d) CNMI

(2) NMFS plans and programs to manage recreational fishery resources

(3) Marine license and Dingell-Johnson funding

(4) Recreational Fisheries Data Task Force

(5) Marine Recreational Fishing Statistical Survey

(6) Pelagic sportfishing tournament data collection

(7) RecFish 2000

C. National Academy of Sciences report on fishery data

D. American Samoa framework measure

The entry of large boats into the pelagics fishery in the exclusive economic zone (EEZ) around American Samoa could cause local overfishing in a portion of the EEZ, create gear conflictsparticularly in areas of concentrated fishing, and reduce the opportunities for profitable fishing operations. This management measure addresses these concerns by allocating fishing privileges to small-boat fishermen harvesting pelagic management unit species (PMUS) in the EEZ surrounding American Samoa. Specifically, the measure prohibits the taking of PMUS by domestic fishing vessels larger than 50 ft (15.24 m) (length overall) from waters within an area that is approximately 50 nm from the baselines of Tutuila Island, Rose Atoll, and the Manu’a Islands and Swain’s Island. An owner of a vessel greater than 50 ft (15.24 m) in length who held a NMFS Longline General Permit on or prior to November 13, 1997, and made a landing of PMUS in American Samoa on or prior to that date is exempt from the prohibition to take PMUS within the closed area.

E. Pelagic research, ECOSIM (ecosystem simulation model), etc.

F. Shark management

(1) Blue shark stock assessment and maximum sustainable yield

(2) Status of Amendment 9 to the Fishery Management Plan for the Pelagic Fisheries of the Western Pacific Region (shark management)

(3) National plan of action on sharks

G. Turtle management

(1) Status of turtle populations and recovery plan

(2) Status of litigation

(3) Draft Pelagic EIS

(4) Mitigation research

(a) Working group

(b) NMFS research

(5) Observer program

G. Seabirds

(1) Status of mitigation regulatory amendment

(2) Shorttail albatross biological opinion

(3) Seabird national plan of action

(4) Report on New Zealand International Fisher’s Forum on seabird bycatch

H. International

(1) Outcome of the 7th Multilateral High-level Conference

(2) South Pacific Community Standing Committee Meeting

I. Pelagic FMP 5-year review

14. Ecosystems and Habitat

A. Draft Coral Reef Ecosystems FMP/Draft EIS

B. Coordinated NWHI coral reef management

C. Results of reef surveys in Line/Phoenix Islands and preliminary results of NWHI cruises

D. Center for Marine Protected Areas (MPA) and MPA Advisory Committee

E. Overview of Pacific Scientific Review Group

F. Overview of Monk Seal Recovery Team

G. Carbon-dioxide ocean sequestration experiment

15. Fishery Rights of Indigenous People

A. Status of Marine Conservation Plans

B. Status of Community Development Program/Demonstration Projects, including eligibility criteria

C. Local observer program

D. Hawaiian green sea turtle cultural and religious uses

16. Program Planning

A. Status of draft amendment to include CNMI and Pacific Remote Island Areas in the bottomfish, precious corals and crustaceans FMPs

B. Status of Congressional legislation relating to ocean and fisheries including coral reefs, shark finning and Magnuson-Stevens Fishery Conservation and Management Act (Magnuson-Stevens Act) reauthorization

C. Report on marine debris conference

D. Palmyra Atoll proposed longline closure

E. Fishing activities and support operations in national wildlife refuges

F. Midway Operations-Midway Phoenix Corporation

G. Report on program planning activities

H. Western Pacific Fisheries Information Network/Fisheries Data Coordinating Committee

I. Status of bioprospecting operations

17. Administrative Matters

A. Administrative reports

B. Advisory Panel appointments

C. Standard Operating Policies and Procedures modifications

D. Upcoming meetings and workshops including the 108th Council meeting

18. Other Business

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to meeting date.

Authority: 1801et seq.

Dated: November 8, 2000.
Bruce C. Morehead,
Acting Director,Office of Sustainable Fisheries,National Marine Fisheries Service.

[FR Doc. 00-29270 Filed 11-14-00; 8:45 am]

BILLING CODE: 3510-22 -S